DEPARTMENT OF LABOR

Employment and Training Administration

[TA-W-39, 085]

Samuel Bent Llc, Gardner, MA; Notice of Termination of Investigation.

Pursuant to section 221 of the Trade Act of 1974, an investigation was initiated on April 23, 2001, in response to a petition, which was filed by workers on behalf of all workers at Samuel Bent Llc, Gardner, Massachusetts.

The Department has been unable to locate an official of the company to provide the information necessary to issue a determination. Consequently, further investigation in this case would serve no purpose, and the investigation has been terminated.

Signed in Washington, DC this 17th day of October, 2001.
Linda G. Poole,
Certifying Officer, Division of Trade Adjustment Assistance.

[FR Doc. 01-27248 Filed 10-29-01; 8:45 am]

BILLING CODE 4510-30-M